DEPARTMENT OF THE TREASURY

Open Meeting of the Federal Advisory Committee on Insurance

AGENCY: Departmental Offices, U.S. Department of the Treasury.

ACTION: Notice of open meeting.

SUMMARY: This notice announces that the U.S. Department of the Treasury's Federal Advisory Committee on Insurance (“Committee”) will meet via teleconference on Friday, February 21, 2020 from 1:30 p.m.-4:30 p.m. Eastern Time. The meeting is open to the public.

DATES: The meeting will be held via teleconference on Friday, February 21, from 1:30 p.m.-4:30 p.m. Eastern Time.

Attendance: The Committee meeting will be held via teleconference and is open to the public. The public can attend remotely via live webcast at http://www.yorkcast.com/treasury/events/2020/02/21/FACI. The webcast will also be available through the Committee's website at https://home.treasury.gov/policy-issues/financial-markets-financial-institutions-and-fiscal-service/federal-insurance-office/federal-advisory-committee-on-insurance-faci. Requests for reasonable accommodations under Section 504 of the Rehabilitation Act should be directed to Mariam G. Harvey, Office of Civil Rights and Diversity, Department of the Treasury at (202) 622-0316, or mariam.harvey@do.treas.gov.

FOR FURTHER INFORMATION CONTACT: Lindsey Baldwin, Senior Insurance Regulatory Policy Analyst, Federal Insurance Office, U.S. Department of the Treasury, 1500 Pennsylvania Ave. NW, Room 1410 MT, Washington, DC 20220, at (202) 622-3220 (this is not a toll-free number). Persons who have difficulty hearing or speaking may access this number via TTY by calling the toll-free Federal Relay Service at (800) 877-8339.

SUPPLEMENTARY INFORMATION: Notice of this meeting is provided in accordance with the Federal Advisory Committee Act, 5 U.S.C. App. 10(a)(2), through implementing regulations at 41 CFR 102-3.150.

Public Comment: Members of the public wishing to comment on the business of the Federal Advisory Committee on Insurance are invited to submit written statements by any of the following methods:

Electronic Statements

• Send electronic comments to faci@treasury.gov.

Paper Statements

• Send paper statements in triplicate to the Federal Advisory Committee on Insurance, U.S. Department of the Treasury, 1500 Pennsylvania Ave. NW, Room 1410 MT, Washington, DC 20220.

In general, the Department of the Treasury will post all statements on its website https://home.treasury.gov/policy-issues/financial-markets-financial-institutions-and-fiscal-service/federal-insurance-office/federal-advisory-committee-on-insurance-faci without change, including any business or personal information provided such as names, addresses, email addresses, or telephone numbers. The Department of the Treasury will also make such statements available for public inspection and copying in the Department of the Treasury's Library, 720 Madison Place NW, Room 1020, Washington, DC 20220, on official business days between the hours of 10:00 a.m. and 5:00 p.m. Eastern Time. You can make an appointment to inspect statements by telephoning (202) 622-2000. All statements received, including attachments and other supporting materials, are part of the public record and subject to public disclosure. You should submit only information that you wish to make available publicly.

Tentative Agenda/Topics for Discussion: This is the first periodic meeting of the Committee in 2020. In this meeting, the Committee will receive updates from the Committee's three subcommittees: The Availability of Insurance Products, the Federal Insurance Office's International Work, and Addressing the Protection Gap Through Public-Private Partnerships and Other Mechanisms. The Committee will also receive an update from the Federal Insurance Office on its activities.

Dated: January 29, 2020.
Steven Seitz,
Director, Federal Insurance Office.

[FR Doc. 2020-02251 Filed 2-4-20; 8:45 am]

BILLING CODE 4810-25-P